SMALL BUSINESS ADMINISTRATION

National Women's Business Council (NWBC); Data Collection Available for Public Comments

AGENCY: National Women's Business Council, Small Business Administration.

ACTION: 60-day notice and request for comments.

SUMMARY: The National Women's Business Council (NWBC) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before December 22, 2014.

ADDRESSES: Send all comments to Erin Kelley, Director of Research and Policy, National Women's Business Council, Small Business Administration, 409 3rd Street, Room 210, Washington, DC 20416.

FOR FURTHER INFORMATION CONTACT: Erin Kelley, Director of Research and Policy, National Women's Business Council, erin.kelley@nwbc.gov 202-205-3850, or Curtis B. Rich, Management Analyst, 202-205-7030, curtis.rich@sba.gov.

SUPPLEMENTARY INFORMATION: The National Women's Business Council (NWBC) is a non-partisan federal advisory council created to serve as an independent source of advice and counsel to the President, Congress, and the U.S. Small Business Administration on economic issues of importance to women business owners.

NWBC is undertaking a research study that will explore how corporate supplier diversity programs have and can be used to support the growth of women-owned businesses (WOBs). Data will be collected using surveys, focus groups and telephone interviews.

This study will build on the existing body of knowledge about the opportunities and challenges WOBs have faced in their experiences with corporate supplier diversity programs; the perceived and actual value corporations gain by offering supplier diversity programs; how corporations intentionally support the success of WOBs; and what factors are most critical to the success of supplier diversity programs—from the perspective of both women entrepreneurs and corporations.

NWBC will use the resulting report from this data collection to inform its annual report to the President, Congress, and the SBA on policy and program recommendations to support the growth of women-owned businesses.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Women's Participation in Corporate Supplier Diversity.

Description of Respondents: Respondents in the study will be women business owners and managers of corporate supplier diversity programs. A random selection of women business owners across the United States will be invited to complete a survey regarding their experiences with corporate supplier diversity programs. To delve more deeply into the perceptions and opinions about corporate supplier diversity programs, focus groups with women business owners will be held in Washington, DC, New York, NY, Chicago, IL, and Los Angeles, CA. Individual interviews will be conducted with managers of corporate supplier diversity programs in order to explore characteristics of corporate supplier diversity programs and factors that contribute to their success in meeting targets for participation of women owned businesses.

Form Number: N/A.

Total Estimated Annual Responses

The study anticipates that approximately 400 surveys will be completed by women business owners; that there will be a maximum of 96 focus group participants (no more than 12 persons for each of 8 focus groups); and 20 individual interviews will be conducted. Potential participants will be identified through organizations that certify and provide services that facilitate the growth of women owned businesses.

Total Estimated Annual Hour Burden

It is estimated that survey respondents will spend a maximum of 30 minutes completing the questionnaire. Focus groups participants will spend approximately 120 minutes completing a pre-discussion questionnaire, engaging in the focus group discussion and traveling to and from the focus group location. Interviews with corporate supplier diversity managers will require approximately 60 minutes.

The total annual time burden is estimated at 417 hours for completion of all aspects of data collection. To estimate the annualized cost of this time burden, we assumed 2,000 annual working hours and an annual salary of $75,000, which is the median salary of small business owners as reported by PayScale Human Resources ¹, resulting in a cost per participant of $0.63. For survey respondents, the total annualized time burden would be would be $18.90 per participant or a total of $7,560; for focus group participants, it would be $75.60 or a total of $7,257.60; and for interview respondents it would be $37.80 or a total of $756.00.

In order to obtain 96 focus participants, it is estimated that 300 contacts will be needed. Of those 204 individuals who are contacted and screened, but who are not eligible, willing, or able to participate in the focus groups, the time burden is approximately five minutes. This adds an additional annual time burden of $642.60.

In total, the time burden cost for this study is estimated at $16,216.20.

Curtis B. Rich,
Management Analyst.

[FR Doc. 2014-25071 Filed 10-21-14; 8:45 am]

BILLING CODE P